FEDERAL HOUSING FINANCE BOARD

12 CFR Parts 914 and 917

FEDERAL HOUSING FINANCE AGENCY

12 CFR Parts 1236 and 1239

DEPARTMENT OF HOUSING AND URBAN DEVELOPMENT

Office of Federal Housing Enterprise Oversight

12 CFR Parts 1710 and 1720

RIN 2590-AA59

Responsibilities of Boards of Directors, Corporate Practices and Corporate Governance Matters

AGENCIES: Federal Housing Finance Board; Federal Housing Finance Agency; Office of Federal Housing Enterprise Oversight, HUD.

ACTION: Notice of proposed rulemaking; extension of comment period.

SUMMARY: On January 28, 2014, the Federal Housing Finance Agency (FHFA) published in the Federal Register a notice of proposed rulemaking for public comment proposing to amend its regulations by relocating, consolidating, and modifying as necessary, certain Federal Housing Finance Board and Office of Federal Housing Enterprise Oversight regulations that pertain to the responsibilities of boards of directors, corporate practices, and corporate governance matters. The proposed rule would also amend a definition within FHFA's Prudential Management and Operations Standards regulations and the introductory language to the standards themselves. The comment period for the proposed rule is set to expire on March 31, 2014 April 29, 2014. This document extends the comment period by an additional 45 days, through and including May 15, 2014, to allow the public additional time to comment on the proposed rule.

DATES: The comment period for the proposed rule published January 28, 2014, at 79 FR 4414, is extended. Written comments must be received on or before May 15, 2014. For additional information, see the SUPPLEMENTARY INFORMATION section.

ADDRESSES: You may submit your comments, identified by regulatory information number (RIN) 2590-AA59, by any of the following methods:

• Federal eRulemaking Portal: http://www.regulations.gov: Follow the instructions for submitting comments. If you submit your comment to the Federal eRulemaking Portal, please also send it by email to FHFA at RegComments@fhfa.gov to ensure timely receipt by FHFA. Include the following information in the subject line of your submission: Comments/RIN 2590-AA59.

• Email: Comments to Alfred M. Pollard, General Counsel may be sent by email to RegComments@fhfa.gov. Please include “RIN 2590-AA59” in the subject line of the message.

• U.S. Mail, United Parcel Service, Federal Express, or Other Mail Service: The mailing address for comments is: Alfred M. Pollard, General Counsel, Attention: Comments/RIN 2590-AA59, Federal Housing Finance Agency, Eighth Floor (OGC), 400 Seventh Street SW., Washington, DC 20024.

• Hand Delivered/Courier: The hand delivery address is: Alfred M. Pollard, General Counsel, Attention: Comments/RIN 2590-AA59, Federal Housing Finance Agency, Eighth Floor (OGC), 400 7th Street SW., Washington, DC 20024. The package should be logged at the Guard Desk, First Floor, on business days between 9 a.m. and 5 p.m.

FOR FURTHER INFORMATION CONTACT: Amy Bogdon, Amy.Bogdon@fhfa.gov, (202) 649-3320, Associate Director, Division of Federal Home Loan Bank Regulation; or Michou Nguyen, Michou.Nguyen@fhfa.gov, (202) 649-3081 (not toll-free numbers), Assistant General Counsel, Office of General Counsel, Federal Housing Finance Agency, Constitution Center, Eighth Floor (OGC), 400 7th Street SW., Washington, DC 20024. The telephone number for the Telecommunications Device for the Hearing Impaired is (800) 877-8339.

SUPPLEMENTARY INFORMATION: On January 28, 2014, FHFA published for comment in the Federal Register a proposed rule, and invited public comments. See 79 FR 4414. The comment period for the proposed rule is scheduled to close on March 31, 2014 (the 60th day after the date of publication). In response to requests from the Federal Home Loan Banks for additional time to review the proposed rule and provide comments, FHFA is extending the comment period for 45 days, changing the deadline for submitting comments on the proposed rule to May 15, 2014.

Dated: February 24, 2014.
Melvin L. Watt,
Director, Federal Housing Finance Agency.

[FR Doc. 2014-04421 Filed 2-27-14; 8:45 am]

BILLING CODE 8070-01-P